Proclamation 10374 of April 22, 2022

National Crime Victims' Rights Week, 2022

By the President of the United States of America

A Proclamation

Forty years ago, the President's Task Force on Victims of Crime was established to help those who had experienced crime and their families—an important step toward the protection of and support for victims' rights. Over the years, crime victims' rights have evolved. Dedicated professionals have worked to develop support and services for survivors that are more holistic, trauma-informed, and effective at overcoming systemic barriers that certain communities face in prosecuting offenders and obtaining justice. However, more work remains to be done to advance these goals. During National Crime Victims' Rights Week, our Nation renews our commitment to providing survivors of crime the support they need to heal. We honor the dedicated victim service providers who support crime victims, and we continue to advance this important cause for all people.

Delivering true justice requires that we provide all victims with the support they need. Persistent barriers still prevent many survivors from receiving the services they need and the justice they deserve. Many crimes—including violent crimes, such as rape and sexual assault—often go unreported to law enforcement because, among other concerns, victims fear placing themselves in further danger and negative interactions with the criminal justice system. My Administration is also working to tackle the epidemic of gun violence, which is a public health and public safety crisis. In the absence of necessary Congressional action, my Administration is taking action to get illegal guns—and those who would use them to commit crimes—off of our streets.

Victims of crime not only face physical and emotional costs, they often suffer a serious economic toll as well, and this is another area in which my Administration is making progress. The Crime Victims Fund, established through the Victims of Crime Act (VOCA), helps provide critical resources for victim services and victim compensation programs throughout the country. That is why, last July, I signed the VOCA Fix to Sustain the Crime Victim Fund Act into law to strengthen VOCA and increase the revenues to support survivors of crime and victim services organizations. My Administration is supporting innovative programs like sexual assault telehealth services and hospital-based victim assistance, enabling providers to quickly reach more survivors and reduce repeated victimization. I am also proud to have recently signed into law the reauthorization of the Violence Against Women Act (VAWA), which funds programs that provide services to survivors of domestic violence, dating violence, sexual assault, and stalking. This reauthorization of VAWA also expands the rights of victims of technology-facilitated gender-based violence and also includes historic Tribal provisions to protect Native communities and help them pursue justice.

Strengthening public safety also means addressing the trauma and inequality of victimization experienced by communities of color, Native American communities, the LGBTQI+ community, the Asian American community, and other historically marginalized groups. People of color suffer higher rates of victimization, and violence is disproportionally concentrated in neighborhoods that have been harmed persistently by racial discrimination, segregation, redlining, and disinvestment. Breaking the cycle of violence enhances public safety, public health, and equity. We also know that members of the LGBTQI+ community are more likely to be victims of violent crime.

My Administration is committed to using all tools at our disposal to ensure every survivor of crime has equal access to the resources and services they need to recover from their ordeals and regain a feeling of safety. To address a surge in hate crimes and bias-motivated attacks—and to provide law enforcement with the resources to identify and investigate hate crimes, I signed the COVID-19 Hate Crimes Act into law. As part of this law, we have funded a new Center for Culturally Responsive Victim Services to help local programs better serve historically marginalized communities.

In addition to supporting crime victims, we must also hold offenders accountable. That is why the Departments of Justice and Homeland Security are committed to investigating and enforcing our criminal and civil laws and ensuring that Federal, State, local, territorial, and Tribal law enforcement officers and prosecutors receive the training and resources they need to deliver justice to victims.

It takes enormous courage and extraordinary strength to emerge from life's most painful moments. As a Nation, let us all work together to stop crimes before they happen and to give victims the support they need to restore a sense of trust and safety and to move toward healing and justice.

NOW, THEREFORE, I, JOSEPH R. BIDEN JR., President of the United States of America, by virtue of the authority vested in me by the Constitution and the laws of the United States, do hereby proclaim April 24 through April 30, 2022, National Crime Victims' Rights Week. I call upon all Americans to observe this week by participating in events that raise awareness of victims' rights and services and by volunteering to serve victims in their time of need.

IN WITNESS WHEREOF, I have hereunto set my hand this twenty-second day of April, in the year of our Lord two thousand twenty-two, and of the Independence of the United States of America the two hundred and forty-sixth.

[FR Doc. 2022-09137

Filed 4-26-22; 8:45 am]

Billing code 3395-F2-P